DEPARTMENT OF HEALTH AND HUMAN SERVICES

Solicitation of Nominations for Appointment to the Advisory Committee on Minority Health

AGENCY: Office of Minority Health, Office of the Secretary, Department of Health and Human Services.

ACTION: Notice.

SUMMARY: The Department of Health and Human Services (HHS), Office of Minority Health (OMH), is seeking nominations of qualified candidates to be considered for appointment as a member of the Advisory Committee on Minority Health (hereafter referred to as the “Committee or ACMH”). In accordance with Public Law 105-392, the Committee provides advice to the Deputy Assistant Secretary for Minority Health on improving the health of racial and ethnic minority groups, and on the development of goals and specific program activities of OMH designed to improve the health status and outcomes of racial and ethnic minorities. Nominations of qualified candidates are being sought to fill vacancies on the Committee.

DATES: Nominations for membership on the Committee must be received no later than 5:00 p.m. EST on January 3, 2018, at the address listed below.

ADDRESSES: All nominations should be mailed to Dr. Minh Wendt, Designated Federal Officer, Advisory Committee on Minority Health, Office of Minority Health, Department of Health and Human Services, 1101 Wootton Parkway, Suite 600, Rockville, MD 20852.

FOR FURTHER INFORMATION CONTACT: Dr. Minh Wendt, Designated Federal Officer, Advisory Committee on Minority Health, Office of Minority Health, Department of Health and Human Services, Tower Building, 1101 Wootton Parkway, Suite 600, Rockville, Maryland 20852. Phone: 240-453-8222; fax: 240-453-8223.

A copy of the ACMH charter and list of the current membership can be obtained by contacting Dr. Wendt or by accessing the Web site managed by OMH at www.minorityhealth.hhs.gov. Information about ACMH activities can be found on the OMH Web site under the heading About OMH.

SUPPLEMENTARY INFORMATION: Pursuant to Public Law 105-392, the Secretary of Health and Human Services established the ACMH. The Committee provides advice to the Deputy Assistant Secretary for Minority Health in carrying out the duties stipulated under Public Law 105-392. This includes providing advice on improving the health of racial and ethnic minority populations and in the development of goals and specific program activities of OMH, which are to:

(1) Establish short-range and long-range goals and objectives and coordinate all other activities within the Public Health Service that relate to disease prevention, health promotion, service delivery, and research impacting racial and ethnic minority populations;

(2) Enter into interagency agreements with other agencies of the Public Health Service;

(3) Support research, demonstrations, and evaluations to test new and innovative models;

(4) Increase knowledge and understanding of health risk factors;

(5) Develop mechanisms that support better information dissemination, education, prevention, and service delivery to individuals from disadvantaged backgrounds, including individuals who are members of racial or ethnic minority groups;

(6) Ensure that the National Center for Health Statistics collects data on the health status of each minority group;

(7) Enter into contracts with public and non-profit private providers of primary health services for the purpose of increasing the access of individuals who lack proficiency in speaking the English language by developing and carrying out programs to provide bilingual or interpretive services;

(8) Support a national minority health resource center which provides resources to the public such as information services and assistance in capacity building;

(9) Carry out programs to improve access to health care services for individuals with limited proficiency in speaking the English language; and

(10) Advise in matters related to the development, implementation, and evaluation of health professions education in decreasing disparities in health care outcomes, including cultural competency as a method of eliminating health disparities.

Management and support services for the ACMH are provided by OMH.

Nominations: The Committee is composed of 12 voting members. The Committee composition also can include non-voting ex officio members. This announcement is seeking nominations for voting members. Voting members of the Committee are appointed by the Secretary from individuals who are not officers or employees of the federal government and who have expertise regarding issues of minority health. To qualify for consideration of appointment to the Committee, an individual must possess demonstrated experience and expertise working on issues impacting the health of racial and ethnic minority populations. The Committee charter stipulates that the racial and ethnic minority groups shall be equally represented on the Committee membership. ACMH is comprised of members who represent the health interest of Hispanics/Latinos; Blacks/African Americans; American Indians and Alaska Natives; and/or Asian Americans, Native Hawaiians, and other Pacific Islanders.

There are a total of four impending vacancies on the Committee: Three vacancies on the ACMH that impact the representation for the health interests of Hispanics/Latinos and one vacancy that impacts the representation of Asian Americans, Native Hawaiians, and other Pacific Islanders. OMH is particularly seeking nominations for individuals who can represent the health interests of these racial and ethnic minority groups. Nominations that are received for individuals to represent other racial and ethnic minority groups also will be accepted. These applications will be retained in files that are maintained by OMH on potential candidates to be considered for the ACMH.

Professional/Technical Expertise: Nominees must have expertise in issues of minority health. In addition, it is desirable that nominees have:

(1) Expertise in developing or contributing to the development of science-based or evidence-based health policies and/or programs. This expertise may include experience in the analysis, evaluation, and interpretation of federal/state health or regulatory policy;

(2) Involvement in national, state, regional, tribal, and/or local efforts to improve the health status or outcomes among racial and ethnic minority populations;

(3) Educational achievement, professional certification(s) in health-related fields (e.g., health professions, allied health, behavioral health, public health, health policy, health administration/management, etc.), and professional experience that will support ability to give expert advice on issues related to improving minority health and eliminating racial and ethnic health disparities;

(4) Expertise in population level health data for racial and ethnic minority groups. This expertise may include survey, administrative, and/or clinical data;

(5) Knowledge and experience in health care systems, cultural and linguistic competency, social determinants of health, evidence-based research, data collection (e.g., federal, state, tribal, or local data collection), or health promotion and disease prevention;

(6) Nationally recognized via peer-reviewed publications, professional awards, advanced credentials, or involvement in national professional organizations.

Requirements for Nomination Submission: Nominations should be typewritten (one nomination per nominator). Nomination package should include: (1) A letter of nomination that clearly states the name and affiliation of the nominee, the basis for the nomination (i.e., specific attributes which qualify the nominee for service in this capacity), and a statement from the nominee indicating a willingness to serve as a member of the Committee; (2) the nominee's contact information, including name, mailing address, telephone number, and email address; (3) the nominee's curriculum vitae which should not exceed 10 pages; and (4) a summary of the nominee's experience and qualification relative to the mandatory professional and technical criteria listed above. Federal employees should not be nominated for consideration of appointment to this Committee.

Individuals selected for appointment to the Committee shall be invited to serve a four-year term. Committee members will receive a stipend for attending Committee meetings and conducting other business in the interest of the Committee, including per diem and reimbursement for travel expenses incurred.

The Department makes every effort to ensure that the membership of a HHS federal advisory committee is fairly balanced in terms of points of view represented and the committee's function. Every effort is made to ensure that a broad representation of geographic areas, gender, racial and ethnic and minority groups, and the disabled are given consideration for membership on HHS federal advisory committees. Appointment to this Committee shall be made without discrimination because of a person's race, color, religion, sex (including pregnancy), national origin, age, disability, or genetic information. Nominations must state that the nominee is willing to serve as a member of ACMH and appears to have no conflict of interest that would preclude membership. An ethics review is conducted for each selected nominee; therefore, individuals selected for nomination will be required to provide detailed information concerning such matters as financial holdings, consultancies, and research grants or contracts to permit evaluation of possible sources of conflict of interest.

Individuals selected to serve on the ACMH through the nomination process will be posted on the OMH Web site once selections have been made.

Authority: 42 U.S.C. 300u-6, Section 1707 of the Public Health Service Act, as amended. The Advisory Committee is governed by provisions of Public Law 92-463, as amended (5 U.S.C. Appendix 2), which sets forth standards for the formation and use of advisory committees.

Dated: September 29, 2017.
Minh Wendt,
Designated Federal Officer, Advisory Committee on Minority Health.

[FR Doc. 2017-21500 Filed 10-4-17; 8:45 am]

BILLING CODE 4150-29-P